DEPARTMENT OF DEFENSE

Office of the Secretary

[Transmittal No. 24-02]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-02, Policy Justification, and Sensitivity of Technology.

Dated: December 16, 2024.
Stephanie J. Bost,
Alternate OSD Federal Register Liaison Officer, Department of Defense.

BILLING CODE 6001-FR-P

BILLING CODE 6001-FR-C

Transmittal No. 24-02

Notice of Proposed Issuance of Letter of Offer Pursuant to Section 36(b)(1) of the Arms Export Control Act, as amended

(i) Prospective Purchaser: Government of Japan

(ii) Total Estimated Value:

Major Defense Equipment * | $38.78 million
Other | $20.25 million
TOTAL | $59.03 million

(iii) Description and Quantity or Quantities of Articles or Services under Consideration for Purchase:

Major Defense Equipment (MDE):

Forty-four (44) AIM-9X Sidewinder Block II Tactical Missiles

Twenty-nine (29) AIM-9X Sidewinder Captive Air Training Missiles (CATM)

Non-MDE:

Also included are missile containers; spare and repair parts; repair of repairables; support and test equipment; publications and technical documentation; personnel training and training equipment; technical assistance, engineering, and logistics support services; transportation and program support; and other related elements of logistics and program support.

(iv) Military Department: Navy (JA-P-AVA)

(v) Prior Related Cases, if any: None

(vi) Sales Commission, Fee, etc., Paid, Offered, or Agreed to be Paid: None known

(vii) Sensitivity of Technology Contained in the Defense Article or Defense Services Proposed to be Sold: See Attached Annex

(viii) Date Report Delivered to Congress: December 15, 2023

*As defined in Section 47(6) of the Arms Export Control Act.

POLICY JUSTIFICATION

Government of Japan—AIM-9X Block II Sidewinder Missiles

The Government of Japan has requested to buy forty-four (44) AIM-9X Sidewinder Block II Tactical Missiles; and twenty-nine (29) AIM-9X Sidewinder Captive Air Training Missiles (CATM). Also included are missile containers; spare and repair parts; repair of repairables; support and test equipment; publications and technical documentation; personnel training and training equipment; technical assistance, engineering, and logistics support services; transportation and program support; and other related elements of logistics and program support. The estimated total program cost is $59.03 million.

This proposed sale will support the foreign policy goals and national security objectives of the United States (U.S.) by improving the security of a major ally that is a force for political stability and economic progress in the Indo-Pacific region.

The proposed sale will improve Japan's capability to meet current and future threats in the region. Providing this missile would complement U.S. capabilities, increase capacity in a high-threat region, and support U.S. and Japanese goals to promote regional stability and the strength of the alliance. Japan will have no difficulty absorbing these articles into its armed forces.

The proposed sale of this equipment and support will not alter the basic military balance in the region.

The principal contractor will be RTX Corporation, Tucson, AZ. There are no known offset agreements proposed in connection with this potential sale.

Implementation of this proposed sale will not require the assignment of any additional U.S. Government or contractor representatives to Japan.

There will be no adverse impact on U.S. defense readiness as a result of this proposed sale.

Transmittal No. 24-02

Notice of Proposed Issuance of Letter of Offer Pursuant to Section 36(b)(1) of the Arms Export Control Act

Annex

Item No. vii

(vii) Sensitivity of Technology:

1. The AIM-9X Block II SIDEWINDER Missile represents a substantial increase in missile acquisition and kinematics performance over the AIM-9M and replaces the AIM-9X Block I Missile configuration. The missile includes a high off-boresight seeker, enhanced countermeasure rejection capability, low drag/high angle of attack airframe and the ability to integrate the Helmet Mounted Cueing System. The most current AIM-9X Block II Operational Flight Software developed for all International Partner countries, which is authorized by USG Export Policy, provides fifth-generation Infra-Red Missile capabilities such as Lock-On-After-Launch, Weapons Data Link, Surface Attack, and Surface Launch. No software source code or algorithms will be released.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Japan can provide substantially the same degree of protection for the sensitive technology being released as the U.S. Government. This sale is necessary in furtherance of the U.S. foreign policy and national security objectives outlined in the Policy Justification.

5. All defense articles and services listed in this transmittal have been authorized for release and export to Japan.

[FR Doc. 2024-30316 Filed 12-18-24; 8:45 am]

BILLING CODE 6001-FR-P